DEPARTMENT OF TRANSPORTATION

Federal Aviation Administration

[Docket No. FAA-2020-0623]

Agency Information Collection Activities: Requests for Comments; Clearance of Renewed Approval of Information Collection

AGENCY: Federal Aviation Administration (FAA), DOT.

ACTION: Notice and request for comments.

SUMMARY: In accordance with the Paperwork Reduction Act of 1995, FAA invites public comments about our intention to request the Office of Management and Budget (OMB) approval for renew an information collection. The collection involves a series of voluntary surveys within the aviation community. The information to be collected will be used to and/or is necessary because it will lead to improvements for safety within the National Airspace.

DATES: Written comments should be submitted by September 1, 2020.

ADDRESSES: Please send written comments:

By Electronic Docket: www.regulations.gov/2020-0623.

By mail: SAFE Program, Office of Flight Standards, Federal Aviation Administration, 800 Independence Avenue SW, Washington, DC 20591.

By fax: 202-267-4200.

FOR FURTHER INFORMATION CONTACT: Edward Kleinschmidt by email at: edward.kleinschmidt@faa.gov; phone: 202-267-4265.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0759.

Title: SAFE Program.

Form Numbers: None.

Type of Review: Renewal.

Background: Aviation Safety Awareness, Feedback, and Evaluation Program (“SAFE”). The SAFE program is a federally directed, compliant with the 2017 OMB Comprehensive Plan for Reforming Federal Government, program with the following primary intents, all of which are designed to increase overall aviation safety:

Promote continuous improvements to maintain the safest aviation system in the world;

Understand current aviation stakeholder (customer) perceptions of effectiveness;

Produce actionable results and findings to continue effective programs while recommending alternate strategies, where needed, to increase effectiveness;

Communicate feedback effectively with aviation stakeholders regarding current effectiveness indices within particular communities and the plan to maintain effective programs or alter other programs to increase effectiveness.

The information will be collected from five aviation stakeholder groups; general aviation pilots, mechanics, repair station, commercial and air transport pilots, and air carriers. Information will be collected in the areas of certification, communication, safety, training, and interaction with the FAA. The information will be collected by an online survey program as well as by paper copies sent directly to the respondents.

Respondents: Respondents include the Aviation Community (general aviation pilots, mechanics, repair station, commercial and air transport pilots, and air carriers).

Frequency: NA.

Estimated Average Burden per Response: Twenty (20) minutes, on average, to complete the survey in any of the response modes.

Estimated Total Annual Burden: The total average annual burden for the 3-year approval period is 527 hours per year. A mixed mode survey approach is being used in an effort to offset the individual burden by providing a means of requesting a print version and the convenience of on-demand electronic versions. This allows the respondent to choose how and when to complete the survey.

Issued in Washington, DC, on July 1, 2020.
Jacqueline Tonic,
SAFE Program Assistant, Office of Flight Standards, Federal Aviation Administration.

[FR Doc. 2020-14594 Filed 7-13-20; 8:45 am]

BILLING CODE P